COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action adds products and services from the Procurement List that were furnished by nonprofit agencies employing persons who are blind or have other severe disabilities.

DATES: Date deleted from the Procurement List: February 16, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

On 12/13/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 11052—Grocery Shopping Tote Bag, Laminated, Spring, Yellow, Small

Mandatory Source of Supply: Industries for the Blind and Visually Impaired, Inc., West Allis, WI

Contracting Activity: Military Resale-Defense Commissary Agency

NSN(s)—Product Name(s):

6515-00-481-2049—Bag, Gravity Enteral Feeding

6530-00-761-0932—Urine Collection Bag, 32 oz Capacity

6530-00-761-0936—Urine Collection Bag, 26 oz Capacity

6530-00-NSH-0028—Bag, Urine Collection, Enhanced, Large, 32 oz.

6530-00-NSH-0029—Bag, Urine Collection, Enhanced, Medium, 26 oz.

6530-00-NSH-0030—Bag, Urine Collection, Enhanced, Moleskin Backing, Large, 32 oz.

6530-00-NSH-0031—Bag, Urine Collection, Enhanced, Inlet Extension, Large, 32 oz.

6530-00-NSH-0032—Bag, Urine Collection, Enhanced, Drain Extension, Large, 32 oz.

6530-00-NSH-0033—Bag, Urine Collection, Enhanced, Moleskin Backing, Inlet Extension, Large, 32 oz.

6530-00-NSH-0034—Bag, Urine Collection, Enhanced, Moleskin, Drain Extension, Large, 32 oz.

6530-00-NSH-0035—Bag, Urine Collection, Enhanced, Inlet and Drain Extension, Large, 32 oz.

6530-00-NSH-0036—Bag, Urine Collection, Enhanced, Moleskin, Inlet and Drain Extension, Large, 32 oz.

6530-00-NSH-0037—Bag, Urine Collection, Enhanced, Moleskin, Medium, 26 oz.

6530-00-NSH-0038—Bag, Urine Collection, Enhanced, Inlet Extension, Medium, 26 oz.

6530-00-NSH-0039—Bag, Urine Collection, Enhanced, Drain Extension, Medium, 26 oz.

6530-00-NSH-0040—Bag, Urine Collection, Enhanced, Moleskin, Inlet Extension, Medium, 26 oz.

6530-00-NSH-0041—Bag, Urine Collection, Enhanced, Moleskin, Drain Extension, Medium, 26 oz

6530-00-NSH-0042—Bag, Urine Collection, Enhanced, Inlet and Drain Extension, Medium, 26 oz.

6530-00-NSH-0043—Bag, Urine Collection, Enhanced, Moleskin, Inlet and Drain Extension, Medium, 26 oz.

6530-00-NSH-0044—Fecal Incontinence Collection Bag, Clear Plastic, Small, 10 oz.

6530-00-NSH-0045—Fecal Incontinence Collection Bag, Clear Plastic, Large, 19 oz.

Mandatory Source of Supply: Work, Incorporated, Dorchester, MA

Contracting Activity: STRATEGIC ACQUISITION CENTER, FREDERICKSBURG, VA

Services

Service Type: Recycling Service

Mandatory for: Cape Cod National Seashore, Wellfleet, MA

Mandatory Source of Supply: capeAbilities, Inc., Hyannis, MA

Contracting Activity: OFFICE OF POLICY, MANAGEMENT, AND BUDGET, NBC ACQUISITION SERVICES DIVISION

Service Type: Toner Cartridge Remanufacturing

Mandatory for: Bighorn National Forest, Sheridan, WY

Mandatory Source of Supply: Community Option Resource Enterprises, Inc. (COR Enterprises), Billings, MT

Contracting Activity: AGRICULTURE, DEPARTMENT OF, PROCUREMENT OPERATIONS DIVISION

Service Type: Janitorial/Custodial

Mandatory for: Blue Mountain: Crazy Canyon, Pattee Canyon and Howard Creek, Missoula, MT

Contracting Activity: AGRICULTURE, DEPARTMENT OF, PROCUREMENT OPERATIONS DIVISION

Service Type: Document Destruction

Mandatory for: Department of Agriculture, Farm Service Agency, Farm Service Agency: 6501 Beacon Drive, Kansas City, MO

Mandatory Source of Supply: JobOne, Independence, MO

Contracting Activity: FARM SERVICE AGENCY, KANSAS CITY ACQUISITION BRANCH

Service Type: Mailing Services

Mandatory for: Government Printing Office—Laurel Warehouse: 8610 & 8660 Cherry Lane, Laurel, MD

Mandatory Source of Supply: Alliance, Inc., Baltimore, MD

Contracting Activity: Government Printing Office

Service Type: Grounds Maintenance

Mandatory for: The Kennedy Center, Washington, DC

Mandatory Source of Supply: Lt. Joseph P. Kennedy Institute, Washington, DC

Contracting Activity: OFFICE OF POLICY, MANAGEMENT, AND BUDGET, NBC ACQUISITION SERVICES DIVISION

Service Type: Operation of Postal Service Center

Mandatory for: Andrews Air Force Base, Andrews AFB, MD

Contracting Activity: DEPT OF THE AIR FORCE, FA7014 AFDW PK

Service Type: Grounds Maintenance

Mandatory for: Fort McPherson, Fort McPherson, GA

Contracting Activity: DEPT OF THE ARMY, W6QM MICC-FDO FT SAM HOUSTON

Service Type: Custodial Services

Mandatory for: DHS—Customs & Border Protection: 5401 Coffee Drive, New Orleans, LA

Mandatory Source of Supply: Goodworks, Inc., New Orleans, LA

Contracting Activity: U.S. CUSTOMS AND BORDER PROTECTION, PROCUREMENT DIRECTORATE

Service Type: Janitorial Services

Mandatory for: USDA, ARS Grassland, Soil and Water Research Laboratory, 808 East Blackland Road, Temple, TX

Mandatory Source of Supply: Rising Star Resource Development Corporation, Dallas, TX

Contracting Activity: AGRICULTURAL RESEARCH SERVICE, USDA ARS SPA 7MN1

Patricia Briscoe,
Deputy Director, Business Operations (Pricing and Information Management).

[FR Doc. 2020-00701 Filed 1-16-20; 8:45 am]

BILLING CODE 6353-01-P